DEPARTMENT OF ENERGY

Orders Granting Authority To Import and Export Natural Gas, To Import and Export Liquefied Natural Gas, Vacating Prior Authorization, and Errata During February 2015

| FE Docket Nos.
ALPHA GAS AND ELECTRIC, LLC | 14-195-NG
ENN CANADA CORPORATION | 14-197-LNG
ENCANA NATURAL GAS INC | 13-152-LNG
TOTAL GAS & POWER NORTH AMERICA, INC | 15-02-NG
PROGAS USA INC | 15-04-NG
SELKIRK COGEN PARTNERS L.P | 15-09-NG
SOCIETE GENERALE ENERGY INC | 15-10-NG
PUGET SOUND ENERGY, INC | 15-11-LNG
SABINE PASS LIQUEFACTION, LLC | 14-92-LNG
SABINE PASS LIQUEFACTION, LLC | 14-92-LNG
FORTISBC ENERGY INC | 14-196-NG
CITIGROUP ENERGY CANADA ULC | 15-03-NG
SEQUENT ENERGY CANADA CORP | 15-05-NG
GAS NATURAL APROVISIONAMIENTOS SDG, S.A | 15-07-NG

AGENCY: Office of Fossil Energy, Department of Energy.

ACTION: Notice of orders.

SUMMARY: The Office of Fossil Energy (FE) of the Department of Energy gives notice that during February 2015, it issued orders granting authority to import and export natural gas, to import and export liquefied natural gas (LNG), vacating prior authorization, and errata. These orders are summarized in the attached appendix and may be found on the FE Web site at http://energy.gov/fe/downloads/listing-doefe-authorizationsorders-issued-2015.

They are also available for inspection and copying in the Office of Fossil Energy, Office of Oil and Gas Global Security and Supply, Docket Room 3E-033, Forrestal Building, 1000 Independence Avenue SW., Washington, DC 20585, (202) 586-9478. The Docket Room is open between the hours of 8:00 a.m. and 4:30 p.m., Monday through Friday, except Federal holidays.

Issued in Washington, DC, on September 29, 2015.
John A. Anderson,
Director, Office of Oil and Gas Global Security and Supply, Office of Oil and Natural Gas.

Appendix—DOE/FE Orders Granting Import/Export Authorizations
3588 | 14-195-NG | 02/04/15 | Alpha Gas and Electric, LLC | Order granting blanket authority to import/export natural gas from/to Canada.
3589 | 14-197-LNG | 02/04/15 | ENN Canada Corporation | Order granting blanket authority to export LNG to Canada by truck.
3378-A | 13-152-LNG | 02/12/15 | Encana Natural Gas Inc. | Order vacating authority to import/export natural gas from/to Canada.
3590 | 15-02-NG | 02/12/15 | Total Gas & Power North America, Inc | Order granting blanket authority to import/export natural gas from/to Canada/Mexico, and to import LNG from various international sources.
3591 | 15-04-NG | 02/12/15 | ProGas USA Inc | Order granting blanket authority to import/export natural gas from/to Canada.
3592 | 15-09-NG | 02/12/15 | Selkirk Cogen Partners L.P | Order granting blanket authority to import natural gas from Canada.
3593 | 15-10-NG | 02/12/15 | Societe Generale Energy Inc | Order granting blanket authority to import/export natural gas from/to Canada/Mexico, to import LNG from Canada/Mexico by truck, to export LNG to Canada/Mexico by vessel/truck, and to import LNG from various international sources by vessel.
3594 | 15-11-LNG | 02/12/15 | Puget Sound Energy, Inc | Order granting blanket authority to import LNG from Canada by truck.
3595 | 14-92-LNG | 02/12/15 | Sabine Pass Liquefaction, LLC | Order granting long-term Multi-contract authority to export LNG by vessel from the Sabine Pass LNG Terminal in Cameron Parish, Louisiana, to Free Trade Agreement nations.
Errata | 14-92-LNG | 02/24/15 | Sabine Pass Liquefaction, LLC | Modification of Order 3595.
3596 | 14-196-NG | 02/26/15 | FortisBC Energy Inc | Order granting blanket authority to import/export natural gas from/to Canada.
3597 | 15-03-NG | 02/26/15 | Citigroup Energy Canada ULC | Order granting blanket authority to import/export natural gas from/to Canada.
3598 | 15-05-NG | 02/26/15 | Sequent Energy Canada Corp | Order granting blanket authority to import/export natural gas from/to Canada.
3599 | 15-07-NG | 02/26/15 | Gas Natural Aprovisionamientos SDG, S.A | Order granting blanket authority to import LNG from various international sources by vessel.

[FR Doc. 2015-25228 Filed 10-2-15; 8:45 am]

BILLING CODE 6450-01-P